SECURITIES AND EXCHANGE COMMISSION

[Release No. 58592 ]

Emergency Order Pursuant to Section 12(K)(2) of the Securities Exchange Act of 1934 Taking Temporary Action To Respond to Market Developments

September 18, 2008.

The Commission is aware of the continued potential of sudden and excessive fluctuations of securities prices and disruption in the functioning of the securities markets that could threaten fair and orderly markets. In our recent publication of an emergency order under Section 12(k) of the Exchange Act (the “Act”),¹ for example, we were concerned about the possible unnecessary or artificial price movements based on unfounded rumors regarding the stability of financial institutions and other issuers exacerbated by “naked” short selling. Our concerns, however, are no longer limited to just the financial institutions that were the subject of the July Emergency Order. Recent market conditions have made us concerned that short selling in the securities of a wider range of financial institutions may be causing sudden and excessive fluctuations of the prices of such securities in such a manner so as to threaten fair and orderly markets.

¹ See Exchange Act Release No. 58166 (July 15, 2008). See also Exchange Act Release No. 58190 (July 18, 2008) (“Amended July Emergency Order”). See also Exchange Act Release No. 58572 (September 17, 2008).

Given the importance of confidence in our financial markets as a whole, we have become concerned about recent sudden declines in the prices of a wide range of securities. Such price declines can give rise to questions about the underlying financial condition of an issuer, which in turn can create a crisis of confidence, without a fundamental underlying basis. This crisis of confidence can impair the liquidity and ultimate viability of an issuer, with potentially broad market consequences. Our concerns are no longer limited to the financial institutions that were the subject of the July Emergency Order.

As a result of these recent developments, the Commission has concluded that there continues to exist the potential of sudden and excessive fluctuations of securities prices generally and disruption in the functioning of the securities markets that could threaten fair and orderly markets. Based on this conclusion, the Commission is exercising its powers under Section 12(k)(2) of the Act.² Pursuant to Section 12(k)(2), in appropriate circumstances the Commission may issue summarily an order to alter, supplement, suspend, or impose requirements or restrictions with respect to matters or actions subject to regulation by the Commission if the Commission determines such an order is necessary in the public interest and for the protection of investors to maintain or restore fair and orderly securities markets.

² This finding of an “emergency” is solely for purposes of Section 12(k)(2) of the Exchange Act and is not intended to have any other effect or meaning or to confer any right or impose any obligation other than set forth in this Order.

In these unusual and extraordinary circumstances, we have concluded that, to prevent substantial disruption in the securities markets, temporarily prohibiting any person from effecting a short sale in the publicly traded securities of certain financial firms, which entities are identified in Appendix A (“Included Financial Firms”), is in the public interest and for the protection of investors to maintain or restore fair and orderly securities markets.

This emergency action should prevent short selling from being used to drive down the share prices of issuers even where there is no fundamental basis for a price decline other than general market conditions.

It is ordered that, pursuant to our Section 12(k)(2) powers, all persons are prohibited from short selling ³ any publicly traded securities of any Included Financial Firm.

³ The definition of “short sale” shall be the same definition used in Rule 200(a) of Regulation SHO and the requirements for marking orders “long” or “short” shall be the same as provided in Regulation SHO.

Similar to the Amended July Emergency Order, we are providing a limited exception for certain bona fide market makers. We believe this narrow exception is necessary because such market makers may need to facilitate customer orders in a fast moving market without possible delays associated with complying with the requirements of this Order.

It is therefore ordered that, pursuant to our Section 12(k)(2) powers, the following entities are excepted from the requirements of the Order: Registered market makers, block positioners, or other market makers obligated to quote in the over-the-counter market, in each case that are selling short a publicly traded security of an Included Financial Firm as part of bona fide market making in such security.

In addition, we are providing an exception to allow short sales that occur as a result of automatic exercise or assignment of an equity option held prior to effectiveness of this Order due to expiration of the option.

It is therefore ordered that, pursuant to our Section 12(k)(2) powers, the requirements of this Order shall not apply to any person that effects a short sale in any publicly traded security of any Included Financial Firm as a result of automatic exercise or assignment of an equity option held prior to effectiveness of this Order due to expiration of the option.

Finally, to facilitate the expiration of options on September 20th, options market makers are excepted from the requirements of this Order until 11:59 p.m. on September 19th when selling short as part of bona fide market making and hedging activities related directly to bona fide market making in derivatives on the publicly traded securities of any Included Financial Firm.

It is therefore ordered that, pursuant to our Section 12(k)(2) powers, the requirements of this Order shall not apply, until 11:59 p.m. on September 19, 2008, to any person that is a market maker that effects a short sale as part of a bona fide market making and hedging activity related directly to bona fide market making in derivatives on the publicly traded securities of any Included Financial Firm.

This Order shall be effective immediately and shall terminate at 11:59 p.m. EDT on October 2, 2008, unless further extended by the Commission.

By the Commission.
J. Lynn Taylor,
Assistant Secretary.

Appendix A

This list, prepared on a best efforts basis, includes banks, insurance companies, and securities firms identified by SICs 6000, 6011, 6020-22, 6025, 6030, 6035-36, 6111, 6140, 6144, 6200, 6210-11, 6231, 6282, 6305, 6310-11, 6320-21, 6324, 6330-31, 6350-51, 6360-61, 6712, and 6719.

AAME ATLANTIC AMERICAN CORP

AANB ABIGAIL ADAMS NATL BANCORP INC

ABBC ABINGTON BANCORP INC PA

ABCB AMERIS BANCORP

ABCW ANCHOR BANCORP WISCONSIN INC

ABK AMBAC FINANCIAL GROUP INC

ABNJ AMERICAN BANCORP OF NJ INC

ABVA ALLIANCE BANKSHARES CORP

ACAP AMERICAN PHYSICIANS CAPITAL INC

ACBA AMERICAN COMMUNITY BNCSHRS INC

ACE ACE LTD

ACFC ATLANTIC COAST FED CORP

ACGL ARCH CAPITAL GROUP LTD NEW

ADVNA ADVANTA CORP

ADVNB ADVANTA CORP

AEG AEGON N V

AEL AMERICAN EQUITY INVT LIFE HLDG C

AET AETNA INC NEW

AF ASTORIA FINANCIAL CORP

AFFM AFFIRMATIVE INSURANCE HLDGS INC

AFG AMERICAN FINANCIAL GROUP INC NEW

AFL A F L A C INC

AGII ARGO GROUP INTL HLDGS LTD

AGO ASSURED GUARANTY LTD

AGP AMERIGROUP CORP

AGX ARGAN INC

AHD ATLAS PIPELINE HOLDINGS L P

AHL ASPEN INSURANCE HOLDINGS LTD

AIB ALLIED IRISH BANKS PLC

AIG AMERICAN INTERNATIONAL GROUP INC

AINV APOLLO INVESTMENT CORP

AIZ ASSURANT INC

ALL ALLSTATE CORP

ALLB ALLIANCE BANCORP INC PA

ALNC ALLIANCE FINANCIAL CORP NY

AMCP AMCOMP INC NEW

AMFI AMCORE FINANCIAL INC

AMG AFFILIATED MANAGERS GROUP INC

AMIC AMERICAN INDEPENDENCE CORP

AMNB AMERICAN NATIONAL BANKSHARES INC

AMP AMERIPRISE FINANCIAL INC

AMPH AMERICAN PHYSICIANS SVC GROUP

AMRB AMERICAN RIVER BANKSHARES

AMSF AMERISAFE INC

AMTD T D AMERITRADE HOLDING CORP

ANAT AMERICAN NATIONAL INS CO

ANNB ANNAPOLIS BANCORP INC

AOC AON CORP

APAB APPALACHIAN BANCSHARES INC

AROW ARROW FINANCIAL CORP

ASBI AMERIANA BANCORP

ASFI ASTA FUNDING INC

ASFN ATLANTIC SOUTHERN FINL GROUP INC

ASRV AMERISERV FINANCIAL INC

ATBC ATLANTIC BANCGROUP INC

ATLO AMES NATL CORP

AUBN AUBURN NATIONAL BANCORP

AWBC AMERICAN WEST BANCORPORATION

AWH ALLIED WORLD ASSUR CO HLDGS LTD

AXA A X A UAP

AXG ATLAS ACQUISITION HOLDINGS CORP

AXS AXIS CAPITAL HOLDINGS LTD

BAC BANK OF AMERICA CORP

BANF BANCFIRST CORP

BANR BANNER CORP

BARI BANCORP RHODE ISLAND INC

BAYN BAY NATIONAL CORP

BBNK BRIDGE CAPITAL HOLDINGS

BBT B B & T CORP

BBX BANKATLANTIC BANCORP INC

BCA CORPBANCA

BCAR BANK OF THE CAROLINAS CORP

BCBP B C B BANCORP INC

BCP BROOKE CAPITAL CORP

BCS BARCLAYS PLC

BCSB B C S B BANCORP INC

BDGE BRIDGE BANCORP INC

BEN FRANKLIN RESOURCES INC

BERK BERKSHIRE BANCORP INC DEL

BFF B F C FINANCIAL CORP

BFIN BANKFINACIAL CORP

BFNB BEACH FIRST NATL BANCSHARES INC

BHB BAR HARBOR BANKSHARES

BHBC BEVERLY HILLS BANCORP INC

BHLB BERKSHIRE HILLS BANCORP INC

BK BANK OF NEW YORK MELLON CORP

BKBK BRITTON & KOONTZ CAPITAL CORP

BKMU BANK MUTUAL CORP NEW

BKOR OAK RIDGE FINANCIAL SERVICES INC

BKSC BANK SOUTH CAROLINA CORP

BKUNA BANKUNITED FINANCIAL CORP

BLX BANCO LATINOAMERICANO DE EXP SA

BMRC BANK OF MARIN BANCORP

BMTC BRYN MAWR BANK CORP

BNCL BENEFICIAL MUTUAL BANCORP INC

BNCN B N C BANCORP

BNS BANK OF NOVA SCOTIA

BNV BEVERLY NATIONAL CORP

BOCH BANK OF COMMERCE HOLDINGS

BOFI B OF I HOLDING INC

BOFL BANK OF FLORIDA CORP NAPLES

BOH BANK OF HAWAII CORP

BOKF B O K FINANCIAL CORP

BOMK BANK MCKENNEY VA

BOVA BANK OF VIRGINIA

BPFH BOSTON PRIVATE FINL HLDS INC

BPSG BROADPOINT SECURITIES GROUP INC

BRK BERKSHIRE HATHAWAY INC DEL

BRK BERKSHIRE HATHAWAY INC DEL

BRKL BROOKLINE BANCORP INC

BSRR SIERRA BANCORP

BTFG BANCTRUST FINANCIAL GROUP INC

BUSE FIRST BUSEY CORP

BWINA BALDWIN & LYONS INC

BWINB BALDWIN & LYONS INC

BX BLACKSTONE GROUP L P

BXS BANCORPSOUTH INC

BYFC BROADWAY FINANCIAL CORP DEL

C CITIGROUP INC

CAC CAMDEN NATIONAL CORP

CACB CASCADE BANCORP

CADE CADENCE FINANCIAL CORP

CAFI CAMCO FINANCIAL CORP

CAPB CAPITALSOUTH BANCORP

CAPE CAPE FEAR BANK CORP

CART CAROLINA TRUST BANK

CARV CARVER BANCORP INC

CASB CASCADE FINANCIAL CORP

CASH META FINANCIAL GROUP INC

CATY CATHAY GENERAL BANCORP

CB CHUBB CORP

CBAN COLONY BANKCORP INC

CBBO COLUMBIA BANCORP ORE

CBC CAPITOL BANCORP LTD

CBIN COMMUNITY BANK SHRS INDIANA INC

CBKN CAPITAL BANK CORP NEW

CBNK CHICOPEE BANCORP INC

CBON COMMUNITY BANCORP

CBU COMMUNITY BANK SYSTEM INC

CCBD COMMUNITY CENTRAL BANK CORP

CCBG CAPITAL CITY BANK GROUP

CCBP COMM BANCORP INC

CCFH C C F HOLDING COMPANY

CCNE C N B FINANCIAL CORP PA

CCOW CAPITAL CORP OF THE WEST

CEBK CENTRAL BANCORP INC

CFBK CENTRAL FEDERAL CORP

CFFC COMMUNITY FINANCIAL CORP

CFFI C & F FINANCIAL CORP

CFFN CAPITOL FEDERAL FINANCIAL

CFNL CARDINAL FINANCIAL CORP

CFR CULLEN FROST BANKERS INC

CHCO CITY HOLDING CO

CHEV CHEVIOT FINANCIAL CORP

CHFC CHEMICAL FINANCIAL CORP

CI C I G N A CORP

CIA CITIZENS INC

CINF CINCINNATI FINANCIAL CORP

CITZ C F S BANCORP INC

CIZN CITIZENS HOLDING CO

CJBK CENTRAL JERSEY BANCORP

CLBH CAROLINA BANK HOLDINGS INC

CLFC CENTER FINANCIAL CORP

CLMS CALAMOS ASSET MANAGEMENT INC

CMA COMERICA INC

CME C M E GROUP INC

CMFB COMMERCEFIRST BANCORP INC

CMGI C M G I INC

CMSB C M S BANCORP INC

CNA C N A FINANCIAL CORP

CNAF COMMERCIAL NATIONAL FINL CORP

CNB COLONIAL BANCGROUP INC

CNBC CENTER BANCORP INC

CNBKA CENTURY BANCORP INC

CNC CENTENE CORP DEL

CNLA COMMUNITY NATL BANK LAKEWAY AREA

CNO CONSECO INC

CNS COHEN & STEERS INC

COBH PENNSYLVANIA COMMERCE BANCORP IN

COBZ COBIZ FINANCIAL INC

COLB COLUMBIA BANKING SYSTEM INC

COOP COOPERATIVE BANCSHARES INC

CORS CORUS BANKSHARES INC

COWN COWEN GROUP INC

CPBC COMMUNITY PARTNERS BANCORP

CPBK COMMUNITY CAPITAL CORP

CPF CENTRAL PACIFIC FINANCIAL CORP

CPHL CASTLEPOINT HOLDINGS LTD

CRBC CITIZENS REPUBLIC BANCORP INC

CRFN CRESCENT FINANCIAL CORP

CRMH C R M HOLDINGS LTD

CRRB CARROLLTON BANCORP

CRVL CORVEL CORP

CSBC CITIZENS SOUTH BANKING CORP DEL

CSBK CLIFTON SAVINGS BANCORP INC

CSFL CENTERSTATE BANKS OF FLORIDA INC

CSHB COMMUNITY SHORES BANK CORP

CSNT CRESCENT BANKING CO

CTBC CONNECTICUT BANK & TRUST CO

CTBI COMMUNITY TRUST BANCORP INC

CTBK CITYBANK LYNNWOOD WASHINGTON

CTZN CITIZENS FIRST BANCORP INC

CVBF C V B FINANCIAL CORP

CVBK CENTRAL VIRGINIA BANKSHARES INC

CVCY CENTRAL VALLEY COMM BANCORP

CVH COVENTRY HEALTH CARE INC

CVLL COMMUNITY VALLEY BANCORP

CVLY CODORUS VALLEY BANCORP INC

CWBC COMMUNITY WEST BANCSHARES

CWBS COMMONWEALTH BANKSHARES INC

CWLZ COWLITZ BANCORPORATION

CZFC CITIZENS FIRST CORP

CZWI CITIZENS CMNTY BANCORP INC MD

DB DEUTSCHE BANK AG

DCOM DIME COMMUNITY BANCSHARES

DEAR DEARBORN BANCORP INC

DFG DELPHI FINANCIAL GROUP INC

DGICA DONEGAL GROUP INC

DGICB DONEGAL GROUP INC

DHIL DIAMOND HILL INVESTMENT GRP INC

DLLR DOLLAR FINANCIAL CORP

DR DARWIN PROFESSIONAL UNDERWRITERS

DSL DOWNEY FINANCIAL CORP

DUF DUFF & PHELPS CORP NEW

EBSB MERIDIAN INTERSTATE BANCORP INC

EBTX ENCORE BANCSHRES INC

ECBE E C B BANCORP INC

EGBN EAGLE BANCORP INC

EIHI EASTERN INSURANCE HOLDINGS INC

EII ENERGY INFRASTRUCTURE ACQUI CORP

EMCI E M C INSURANCE GROUP INC

EMITF ELBIT IMAGING LTD

ENH ENDURANCE SPECIALTY HOLDINGS LTD

ESBF E S B FINANCIAL CORP

ESBK ELMIRA SAVINGS BANK FSB NY

ESGR ENSTAR GROUP LTD

ETFC E TRADE FINANCIAL CORP

EV EATON VANCE CORP

EVBN EVANS BANCORP INC

EVBS EASTERN VIRGINIA BANKSHARES INC

EVR EVERCORE PARTNERS INC

EWBC EAST WEST BANCORP INC

FABK FIRST ADVANTAGE BANCORP

FAC FIRST ACCEPTANCE CORP

FAF FIRST AMERICAN CORP CALIF

FBC FLAGSTAR BANCORP INC

FBCM F B R CAPITAL MARKETS CORP

FBIZ FIRST BUSINESS FINL SVCS INC

FBMI FIRSTBANK CORP

FBMS FIRST BANCSHARES INC MS

FBNC FIRST BANCORP NC

FBP FIRST BANCORP P R

FBSI FIRST BANCSHARES INC MO

FBSS FAUQUIER BANKSHARES INC

FBTC FIRST BANCTRUST

FCAL FIRST CALIFORNIA FINL GROUP INC

FCAP FIRST CAPITAL INC

FCBC FIRST COMMUNITY BANCSHARES INC

FCCO FIRST COMMUNITY CORP SC

FCCY 1ST CONSTITUTION BANCORP

FCFL FIRST COMMUNITY BANK CORP AMER

FCNCA FIRST CITIZENS BANCSHARES INC NC

FCVA FIRST CAPITAL BANCORP INC VA

FCZA FIRST CITIZENS BANC CORP

FDEF FIRST DEFIANCE FINANCIAL CORP

FDT FEDERAL TRUST CORP

FED FIRSTFED FINANCIAL CORP

FFBC FIRST FINANCIAL BANCORP OHIO

FFBH FIRST FEDERAL BANCSHARES ARK INC

FFCH FIRST FINANCIAL HOLDINGS INC

FFCO FEDFIRST FINANCIAL CORP

FFDF F F D FINANCIAL CORP

FFFD NORTH CENTRAL BANCSHARES INC

FFG F B L FINANCIAL GROUP INC

FFH FAIRFAX FINL HOLDINGS LTD

FFHS FIRST FRANKLIN CORP

FFIC FLUSHING FINANCIAL CORP

FFIN FIRST FINANCIAL BANKSHARES INC

FFKT FARMERS CAPITAL BANK CORP

FFKY FIRST FINANCIAL SERVICE CORP

FFNM FIRST FED NORTHN MI BANCORP INC

FFNW FIRST FINANCIAL NORTHWEST INC

FFSX FIRST FEDERAL BANKSHARES INC DEL

FHN FIRST HORIZON NATIONAL CORP

FIFG 1ST INDEPENDENCE FNL GROUP INC

FIG FORTRESS INVESTMENT GROUP L L C

FII FEDERATED INVESTORS INC PA

FISI FINANCIAL INSTITUTIONS INC

FKFS FIRST KEYSTONE FINANCIAL INC

FLIC FIRST LONG ISLAND CORP

FMAR FIRST MARINER BANCORP

FMBI FIRST MIDWEST BANCORP DE

FMER FIRSTMERIT CORP

FMFC FIRST M & F CORP

FNB F N B CORP PA

FNBN F N B UNITED CORP

FNFG FIRST NIAGARA FINL GROUP INC NEW

FNLC FIRST BANCORP INC ME

FNM FEDERAL NATIONAL MORTGAGE ASSN

FNSC FIRST NATIONAL BANCSHARES INC SC

FPBI F P B BANCORP INC

FPBN 1ST PACIFIC BANCORP CA

FPFC FIRST PLACE FINANCIAL CORP NM

FPIC F P I C INSURANCE GROUP INC

FPTB FIRST PACTRUST BANCORP INC

FRBK REPUBLIC FIRST BANCORP INC

FRE FEDERAL HOME LOAN MORTGAGE CORP

FRGB FIRST REGIONAL BANCORP

FRME FIRST MERCHANTS CORP

FSBI FIDELITY BANCORP INC

FSBK FIRST SOUTH BANCORP INC

FSGI FIRST SECURITY GROUP INC

FSNM FIRST STATE BANCORPORATION

FTBK FRONTIER FINANCIAL CORP

FULT FULTON FINANCIAL CORP PA

FUNC FIRST UNITED CORP

FWV FIRST WEST VIRGINIA BANCORP INC

FXCB FOX CHASE BANCORP INC

GABC GERMAN AMERICAN BANCORP INC

GAN GAINSCO INC

GBCI GLACIER BANCORP INC NEW

GBH GREEN BUILDERS INC

GBL GAMCO INVESTORS INC

GBNK GUARANTY BANCORP

GBTS GATEWAY FINANCIAL HLDGS INC

GCA GLOBAL CASH ACCESS HOLDINGS INC

GFED GUARANTY FEDERAL BANCSHARES INC

GFIG G F I GROUP INC

GFLB GREAT FLORIDA BANK

GGAL GRUPO FINANCIERO GALICIA S A

GHL GREENHILL & CO INC

GIW WILBER CORP

GLBZ GLEN BURNIE BANCORP

GLRE GREENLIGHT CAPITAL RE LTD

GNW GENWORTH FINANCIAL INC

GOV GOUVERNEUR BANCORP INC

GRAN BANK GRANITE CORP

GRNB GREEN BANKSHARES INC

GROW U S GLOBAL INVESTORS INC

GS GOLDMAN SACHS GROUP INC

GSBC GREAT SOUTHERN BANCORP INC

GSLA G S FINANCIAL CORP

GTS TRIPLE S MANAGEMENT CORP

HABC HABERSHAM BANCORP INC

HAFC HANMI FINANCIAL CORP

HALL HALLMARK FINANCIAL SERVICES INC

HARL HARLEYSVILLE SAVINGS FINAN CORP

HAXS HEALTHAXIS INC

HBAN HUNTINGTON BANCSHARES INC

HBHC HANCOCK HOLDING CO

HBNK HAMPDEN BANCORP INC

HBOS HERITAGE FINANCIAL GROUP

HCBK HUDSON CITY BANCORP INC

HCC H C C INSURANCE HOLDINGS INC

HEOP HERITAGE OAKS BANCORP

HFBC HOPFED BANCORP INC

HFFC H F FINANCIAL CORP

HFWA HERITAGE FINANCIAL CORP WA

HGIC HARLEYSVILLE GROUP INC

HIFS HINGHAM INSTITUTION FOR SVGS MA

HMN HORACE MANN EDUCATORS CORP NEW

HMNF H M N FINANCIAL INC

HMPR HAMPTON ROADS BANKSHARES INC

HNBC HARLEYSVILLE NATIONAL CORP PA

HNT HEALTH NET INC

HOMB HOME BANCSHARES INC

HOME HOME FEDERAL BANCORP INC MD

HRZB HORIZON FINANCIAL CORP WASH

HS HEALTHSPRING INC

HTBK HERITAGE COMMERCE CORP

HTH HILLTOP HOLDINGS INC

HTLF HEARTLAND FINANCIAL USA INC

HUM HUMANA INC

HWBK HAWTHORN BANCSHARES INC

HWFG HARRINGTON WEST FINANCIAL GRP IN

IAAC INTERNATIONAL ASSETS HLDG CORP

IBCA INTERVEST BANCSHARES CORP

IBCP INDEPENDENT BANK CORP MICH

IBKC IBERIABANK CORP

IBKR INTERACTIVE BROKERS GROUP INC

IBNK INTEGRA BANK CORP

IBOC INTERNATIONAL BANCSHARES CORP

ICE INTERCONTINENTAL EXCHANGE INC

ICH INVESTORS CAPITAL HOLDINGS LTD

IFC IRWIN FINANCIAL CORP

IFSB INDEPENDENCE FEDERAL SAVINGS BK

IHC INDEPENDENCE HOLDING CO NEW

IMP IMPERIAL CAPITAL BANCORP INC

INCB INDIANA COMMUNITY BANCORP

INDB INDEPENDENT BANK CORP MA

ING I N G GROUP N V

IPCC INFINITY PROPERTY & CASUALTY COR

IPCR I P C HOLDINGS LTD

IRE IRELAND BANK

ITC I T C HOLDINGS CORP

ITG INVESTMENT TECHNOLOGY GP INC NEW

ITIC INVESTORS TITLE CO

JAXB JACKSONVILLE BANCORP INC FL

JEF JEFFERIES GROUP INC NEW

JFBC JEFFERSONVILLE BANCORP

JFBI JEFFERSON BANCSHARES INC TENN

JLI JESUP & LAMONT INC

JMP J M P GROUP INC

JNS JANUS CAP GROUP INC

JPM JPMORGAN CHASE & CO

JXSB JACKSONVILLE BANCORP INC

KCLI KANSAS CITY LIFE INS CO

KENT KENT FINANCIAL SERVICES INC

KEY KEYCORP NEW

KFED K FED BANCORP

KFFB KENTUCKY FIRST FEDERAL BANCORP

KFS KINGSWAY FINANCIAL SERVICES INC

KRNY KEARNY FINANCIAL CORP

L LOEWS CORP

LAB LABRANCHE & CO INC

LABC LOUISIANA BANCORP INC

LARK LANDMARK BANCORP INC

LAZ LAZARD LTD

LBBB LIBERTY BELL BK CHERRY HILL NJ

LBCP LIBERTY BANCORP INC MO

LEGC LEGACY BANCORP INC

LEH LEHMAN BROTHERS HOLDINGS INC

LFC CHINA LIFE INSURANCE CO LTD

LION FIDELITY SOUTHERN CORP NEW

LKFN LAKELAND FINANCIAL CORP

LNC LINCOLN NATIONAL CORP IN

LNCB LINCOLN BANCORP IND

LPSB LAPORTE BANCORP INC

LSBI L S B FINANCIAL CORP

LSBK LAKE SHORE BANCORP INC

LSBX L S B CORP

LTS LADENBURG THALMANN FIN SVCS INC

LUK LEUCADIA NATIONAL CORP

LYG LLOYDS TSB GROUP PLC

MAIN MAIN STREET CAPITAL CORP

MASB MASSBANK CORP

MBFI M B FINANCIAL INC NEW

MBHI MIDWEST BANC HOLDINGS INC

MBI M B I A INC

MBP MID PENN BANCORP INC

MBR MERCANTILE BANCORP INC

MBRG MIDDLEBURG FINANCIAL CORP

MBTF M B T FINANCIAL CORP

MBVA MILLENNIUM BANKSHARES CORP

MBVT MERCHANTS BANCSHARES INC

MBWM MERCANTILE BANK CORP

MCBF MONARCH COMMUNITY BANCORP INC

MCBI METROCORP BANCSHARES INC

MCGC M C G CAPITAL CORP

MCY MERCURY GENERAL CORP NEW

MER MERRILL LYNCH & CO INC

MERR MERRIMAN CURHAN FORD GROUP INC

MF M F GLOBAL LTD

MFC MANULIFE FINANCIAL CORP

MFLR MAYFLOWER BANCORP INC

MFNC MACKINAC FINANCIAL CORP

MFSF MUTUALFIRST FINL INC

MGYR MAGYAR BANCORP INC

MHLD MAIDEN HOLDNGS LTD

MI MARSHALL & ILSLEY CORP NEW

MIG MEADOWBROOK INSURANCE GROUP INC

MIGP MERCER INSURANCE GROUP INC

MKL MARKEL CORP

MKTX MARKETAXESS HLDGS INC

MNRK MONARCH FINANCIAL HOLDINGS INC

MOFG MIDWESTONE FINANCIAL GRP INC NEW

MOH MOLINA HEALTHCARE INC

MORN MORNINGSTAR INC

MRH MONTPELIER RES HOLDINGS LTD

MROE MONROE BANCORP

MS MORGAN STANLEY DEAN WITTER & CO

MSBF M S B FINANCIAL CORP

MSFG MAINSOURCE FINANCIAL GROUP INC

MSL MIDSOUTH BANCORP INC

MTG M G I C INVESTMENT CORP WIS

MTU MITSUBISHI UFJ FINANCIAL GP INC

MXGL MAX CAPITAL GROUP LTD

NAHC NATIONAL ATLANTIC HOLDINGS CORP

NAL NEWALLIANCE BANCSHARES INC

NARA NARA BANCORP INC

NATL NATIONAL INTERSTATE CORP

NAVG NAVIGATORS GROUP INC

NBBC NEWBRIDGE BANCORP

NBN NORTHEAST BANCORP

NBTB N B T BANCORP INC

NBTF N B & T FINANCIAL GROUP INC

NCBC NEW CENTURY BANCORP INC NC

NCC NATIONAL CITY CORP

NDAQ NASDAQ O M X GROUP INC

NEBS NEW ENGLAND BANCSHARES INC

NECB NORTHEAST COMMUNITY BANCORP INC

NEWT NEWTEK BUSINESS SVCS INC

NFBK NORTHFIELD BANCORP INC

NFS NATIONWIDE FINANCIAL SERVICES IN

NFSB NEWPORT BANCORP INC

NHTB NEW HAMPSHIRE THRIFT BNCSHRS INC

NICK NICHOLAS FINANCIAL INC

NITE KNIGHT CAPITAL GROUP INC

NKSH NATIONAL BANKSHARES INC

NMR NOMURA HOLDINGS INC

NMX NYMEX HOLDINGS INC

NOVB NORTH VALLEY BANCORP

NPBC NATIONAL PENN BANCSHARES INC

NRIM NORTHRIM BANCORP INC

NSEC NATIONAL SECURITY GROUP INC

NSFC NORTHERN STATES FINANCIAL CORP

NSH NUSTAR G P HOLDINGS LLC

NTQ N T R ACQUISITION CO

NTRS NORTHERN TRUST CORP

NVSL NAUGATUCK VLY FINANCIAL CORP

NWFL NORWOOD FINANCIAL CORP

NWLIA NATIONAL WESTERN LIFE INS CO

NWSB NORTHWEST BANCORP INC PA

NXTY NEXITY FINANCIAL CORP

NYB NEW YORK COMMUNITY BANCORP INC

NYM N Y M A G I C INC

NYX N Y S E EURONEXT

OCFC OCEANFIRST FINANCIAL CORP

OFG ORIENTAL FINANCIAL GROUP INC

OKSB SOUTHWEST BANCORP INC OKLA

OLBK OLD LINE BANCSHARES

OLCB OHIO LEGACY CORP

ONB OLD NATIONAL BANCORP

ONFC ONEIDA FINANCIAL CORP

OPHC OPTIMUMBANK HOLDINGS INC

OPOF OLD POINT FINL CORP

OPY OPPENHEIMER HOLDINGS INC

ORH ODYSSEY RE HOLDINGS CORP

ORI OLD REPUBLIC INTERNATIONAL CORP

ORIT ORITANI FINANCIAL CORP

OSBC OLD SECOND BANCORP INC

OSBK OSAGE BANCSHARES INC

OSHC OCEAN SHORE HOLDING CO

OVBC OHIO VALLEY BANC CORP

OXPS OPTIONSXPRESS HOLDINGS INC

OZM OCH ZIFF CAPITAL MANGMNT GRP LLC

OZRK BANK OF THE OZARKS INC

PABK P A B BANKSHARES INC

PACW PACWEST BANCORP DE

PBCI PAMRAPO BANCORP INC

PBCT PEOPLES UNITED FINANCIAL INC

PBHC PATHFINDER BANCORP INC

PBIB PORTER BANCORP INC

PBIP PRUDENTIAL BANCORP INC PA

PBKS PROVIDENT BANKSHARES CORP

PBNY PROVIDENT NEW YORK BANCORP

PCBC PACIFIC CAPITAL BANCORP NEW

PCBI PEOPLES COMMUNITY BANCORP INC

PCBK PACIFIC CONTINENTAL CORP

PCBS PROVIDENT COMMUNITY BANCSHRS INC

PEBK PEOPLES BANCORP NC INC

PEBO PEOPLES BANCORP INC

PFBC PREFERRED BANK LOS ANGELES

PFBI PREMIER FINANCIAL BANCORP INC

PFBX PEOPLES FINANCIAL CORP

PFED PARK BANCORP INC

PFG PRINCIPAL FINANCIAL GROUP INC

PFS PROVIDENT FINANCIAL SVCS INC

PGR PROGRESSIVE CORP OH

PHLY PHILADELPHIA CONSOLIDATED HLG CO

PICO P I C O HOLDINGS INC

PJC PIPER JAFFRAY COMPANIES

PKBK PARKE BANCORP INC

PL PROTECTIVE LIFE CORP

PLCC PAULSON CAPITAL CORP

PLFE PRESIDENTIAL LIFE CORP

PMACA P M A CAPITAL CORP

PMBC PACIFIC MERCANTILE BANCORP

PMI P M I GROUP INC

PNBC PRINCETON NATIONAL BANCORP INC

PNBK PATRIOT NATIONAL BANCORP INC

PNC P N C FINANCIAL SERVICES GRP INC

PNFP PINNACLE FINANCIAL PARTNERS INC

PNSN PENSON WORLDWIDE INC

PNX PHOENIX COS INC

PPBI PACIFIC PREMIER BANCORP INC

PRA PROASSURANCE CORP

PRE PARTNERRE LTD

PRK PARK NATIONAL CORP

PROS PROCENTURY CORP

PROV PROVIDENT FINANCIAL HOLDINGS INC

PRSP PROSPERITY BANCSHARES INC

PRU PRUDENTIAL FINANCIAL INC

PRWT PREMIERWEST BANCORP

PSBC PACIFIC STATE BANCORP

PSBH PSB HOLDINGS INC

PSEC PROSPECT CAPITAL CORP

PTA PENN TREATY AMERICAN CORP

PTP PLATINUM UNDERWRITERS HLDGS LTD

PUK PRUDENTIAL PLC

PULB PULASKI FINANCIAL CORP

PVFC P V F CAPITAL CORP

PVSA PARKVALE FINANCIAL CORP

PVTB PRIVATEBANCORP INC

PWOD PENNS WOODS BANCORP INC

PZN PZENA INVESTMENT MANAGEMENT INC

QCRH Q C R HOLDINGS INC

QNTA QUANTA CAPITAL HOLDINGS LTD

RAMR R A M HOLDINGS LTD

RBCAA REPUBLIC BANCORP INC KY

RBNF RURBAN FINANCIAL CORP

RBPAA ROYAL BANCSHARES PA INC

RBS ROYAL BANK SCOTLAND GROUP PLC

RCBK RIVER CITY BANK

RCKB ROCKVILLE FINANCIAL INC

RDN RADIAN GROUP INC

RE EVEREST RE GROUP LTD

RF REGIONS FINANCIAL CORP NEW

RGA REINSURANCE GROUP OF AMERICA INC

RIVR RIVER VALLEY BANCORP

RJF RAYMOND JAMES FINANCIAL INC

RKH REGIONAL BANK HOLDRS TRUST

RLI R L I CORP

RNR RENAISSANCERE HOLDINGS LTD

RNST RENASANT CORP

RODM RODMAN & RENSHAW CAP GRP INC NEW

ROMA ROMA FINANCIAL CORP

ROME ROME BANCORP INC

RPFG RAINIER PACIFIC FINL GROUP INC

RVSB RIVERVIEW BANCORP INC

RY ROYAL BANK CANADA MONTREAL QUE

SAF SAFECO CORP

SAFT SAFETY INSURANCE GROUP INC

SAL SALISBURY BANCORP INC

SAMB SUN AMERICAN BANCORP

SASR SANDY SPRING BANCORP INC

SAVB SAVANNAH BANCORP INC

SBBX SUSSEX BANCORP

SBCF SEACOAST BANKING CORP FLA

SBIB STERLING BANCSHARES INC

SBKC SECURITY BANK CORP

SBNY SIGNATURE BANK NEW YORK N Y

SBP SANTANDER BANCORP

SBSI SOUTHSIDE BANCSHARES INC

SCA SECURITY CAPITAL ASSURANCE LTD

SCB COMMUNITY BANKSHARES INC S C

SCBT S C B T FINANCIAL CORP

SCHW SCHWAB CHARLES CORP NEW

SCMF SOUTHERN COMMUNITY FINCL CORP

SEAB SEABRIGHT INSURANCE HOLDINGS INC

SF STIFEL FINANCIAL CORP

SFG STANCORP FINANCIAL GROUP INC

SFNC SIMMONS 1ST NATIONAL CORP

SFST SOUTHERN FIRST BANCSHARES INC

SGB SOUTHWEST GEORGIA FINANCIAL CORP

SHG SHINHAN FINANCIAL GROUP CO LTD

SIEB SIEBERT FINANCIAL CORP

SIFI SI FINANCIAL GROUP INC

SIGI SELECTIVE INSURANCE GROUP INC

SIVB S V B FINANCIAL GROUP

SLF SUN LIFE FINANCIAL INC

SLM S L M CORP

SMBC SOUTHERN MISSOURI BANCORP INC

SMCG MILLENNIUM INDIA ACQUISIT CO INC

SMHG SANDERS MORRIS HARRIS GROUP INC

SMMF SUMMIT FINANCIAL GROUP INC

SMTB SMITHTOWN BANCORP INC

SNBC SUN BANCORP INC

SNV SYNOVUS FINANCIAL CORP

SOCB SOUTHCOAST FINANCIAL CORP

SOMH SOMERSET HILLS BANCORP

SONA SOUTHERN NATIONAL BANCORP VA INC

SOV SOVEREIGN BANCORP INC

SRCE 1ST SOURCE CORP

SSBI SUMMIT STATE BANK

SSBX SILVER STATE BANCORP

SSFN STEWARDSHIP FINANCIAL CORP

STBA S & T BANCORP INC

STBC STATE BANCORP INC NY

STBK STERLING BANKS INC

STEL STELLARONE CORP

STFC STATE AUTO FINANCIAL CORP

STI SUNTRUST BANKS INC

STL STERLING BANCORP

STSA STERLING FINANCIAL CORP WASH

STT STATE STREET CORP

STU STUDENT LOAN CORP

SUAI SPECIALTY UNDERWRITERS ALL INC

SUBK SUFFOLK BANCORP

SUFB SUFFOLK FIRST BANK VA

SUPR SUPERIOR BANCORP

SUR C N A SURETY CORP

SUSQ SUSQUEHANNA BANCSHARES INC PA

SVBI SEVERN BANCORP INC MD

SWS S W S GROUP INC

SYBT S Y BANCORP INC

TAMB TAMALPAIS BANCORP

TAQ TRANSFORMA ACQUISITION GROUP INC

TAYC TAYLOR CAPITAL GROUP INC

TBBK BANCORP INC

TBHS BANK HOLDINGS THE

TCB T C F FINANCIAL CORP

TCBI TEXAS CAPITAL BANCSHARES INC

TCBK TRICO BANCSHARES

TCH 21ST CENTURY HOLDING CO

TDBK TIDELANDS BANCSHARES INC

TFIN TEAM FINANCIAL INC

TFSL TFS FINANCIAL CORP

TGIC TRIAD GUARANTY INC

THFF FIRST FINANCIAL CORP IN

THG HANOVER INSURANCE GROUP INC

THRD T F FINANCIAL CORP

TIBB T I B FINANCIAL CORP

TIL TRANS INDIA ACQUISITION CORP

TMCV TEMECULA VALLEY BANCORP INC

TMK TORCHMARK CORP

TMP TOMPKINS FINANCIAL CORP

TNCC TENNESSEE COMMERCE BANCORP INC

TOFC TOWER FINANCIAL CORP

TONE TIERONE CORP

TOWN TOWNEBANK

TRH TRANSATLANTIC HOLDINGS INC

TROW T ROWE PRICE GROUP INC

TRST TRUSTCO BANK CORP NY

TRUE CENTRUE FINANCIAL CORP NEW

TRV TRAVELERS COMPANIES INC

TSBK TIMBERLAND BANCORP INC

TSFG SOUTH FINL GROUP INC

TSH TECHE HOLDING CO

TWGP TOWER GROUP INC

TWPG THOMAS WEISEL PARTNERS GROUP INC

UAM UNIVERSAL AMERICAN CORP

UB UNIONBANCAL CORP

UBCP UNITED BANCORP INC

UBFO UNITED SECURITY BANKSHARES

UBNK UNITED FINANCIAL BANCORP INC MD

UBOH UNITED BANCSHARES INC

UBS U B S AG

UBSH UNION BANKSHARES CORP

UBSI UNITED BANKSHARES INC

UCBA UNITED COMMUNITY BANCORP

UCBH U C B H HOLDINGS INC

UCBI UNITED COMMUNITY BANKS INC GA

UCFC UNITED COMMUNITY FINL CORP OHIO

UFCS UNITED FIRE & CAS CO

UMBF U M B FINANCIAL CORP

UMPQ UMPQUA HOLDINGS CORP

UNAM UNICO AMERICAN CORP

UNB UNION BANKSHARES INC

UNH UNITEDHEALTH GROUP INC

UNIB UNIVERSITY BANCORP INC

UNM UNUM GROUP

UNTY UNITY BANCORP INC

USB U S BANCORP DEL

USBI UNITED SECURITY BANCSHARES INC

UTR UNITRIN INC

UVSP UNIVEST CORP OF PENNSYLVANIA

UWBK UNITED WESTERN BANCORP INC

VBFC VILLAGE BANK AND TRUST FINL CORP

VCBI VIRGINIA COMMERCE BANCORP

VIST V I S T FINACIAL CORP

VLY VALLEY NATIONAL BANCORP

VNBC VINEYARD NATIONAL BANCORP

VPFG VIEWPOINT FINANCIAL GROUP

VR VALIDUS HOLDINGS LTD

VSBN V S B BANCORP INC NY

VYFC VALLEY FINANCIAL CORP VA

WABC WESTAMERICA BANCORPORATION

WAIN WAINWRIGHT BANK & TRUST CO BOSTN

WAL WESTERN ALLIANCE BANCORPORATION

WASH WASHINGTON TRUST BANCORP INC

WAUW WAUWATOSA HOLDINGS INC

WAYN WAYNE SAVINGS BANCSHARES INC NEW

WB WACHOVIA CORP 2ND NEW

WBCO WASHINGTON BANKING COMPANY

WBNK WACCAMAW BANKSHARES INC

WBS WEBSTER FINL CORP WATERBURY CONN

WCBO WEST COAST BANCORP ORE NEW

WCG WELLCARE HEALTH PLANS INC

WDR WADDELL & REED FINANCIAL INC

WFBC WILLOW FINANCIAL BANCORP INC

WFC WELLS FARGO & CO NEW

WFD WESTFIELD FINANCIAL INC

WFSL WASHINGTON FEDERAL INC

WGNB W G N B CORP

WHG WESTWOOD HOLDINGS GROUP INC

WHI W HOLDING CO INC

WIBC WILSHIRE BANCORP INC

WL WILMINGTON TRUST CORP

WLP WELLPOINT INC

WM WASHINGTON MUTUAL INC

WPL STEWART W P & CO LTD

WRB BERKLEY W R CORP

WSB W S B HOLDINGS INC

WSBC WESBANCO INC

WSFG W S B FINANCIAL GROUP

WSFS WSFS FINANCIAL CORP

WTBA WEST BANCORPORATION INC

WTFC WINTRUST FINANCIAL CORPORATION

WTM WHITE MOUNTAINS INS GROUP INC

WTNY WHITNEY HOLDING CORP

WVFC WVS FINANCIAL CORP

XL X L CAPITAL LTD

Y ALLEGHANY CORP DE

YAVY YADKIN VALLEY FINANCIAL CORP

ZION ZIONS BANCORP

ZNT ZENITH NATIONAL INSURANCE CORP

[FR Doc. E8-22369 Filed 9-23-08; 8:45 am]

BILLING CODE 8010-01-P